DEPARTMENT OF COMMERCE

National Telecommunications and Information Administration

[Docket No. 160706588-6588-01]

RIN 0660-XC027

State Alternative Plan Program (SAPP) and the First Responder Network Authority Nationwide Public Safety Broadband Network

AGENCY: National Telecommunications and Information Administration, U.S. Department of Commerce.

ACTION: Notice; reopening of comment period.

SUMMARY: On July 19, 2016, the National Telecommunications and Information Administration (NTIA) issued a notice and request for public comments on NTIA's preliminary guidance concerning how a qualified state may apply to NTIA for required authority to enter into a spectrum capacity lease with the First Responder Network Authority (FirstNet) and optional grant funds to assist in the construction of its radio access network (RAN) should it opt to do so as allowed under the Middle Class Tax Relief and Job Creation Act of 2012 (Act). In response to requests for additional time in which to comment, NTIA through this notice reopens the comment period. Comments received between the August 18, 2016 due date for comments announced in the July 19, 2016 notice, and publication of this notice in the Federal Register, are deemed to be timely.

DATES: Comments are due no later than 5:00 p.m. Eastern Daylight Time on September 7, 2016.

ADDRESSES: The public may submit written comments on issues addressed in this Notice. Written comments may be submitted electronically via email to: sapp-comments@ntia.doc.gov or by mail to: Office of Public Safety Communications, National Telecommunications and Information Administration, U.S. Department of Commerce, 1401 Constitution Avenue NW., Room 4078, Washington, DC 20230. Comments submitted by email should be machine-readable and should not be copy-protected. Commenters should include the name of the person or organization filing the comment, as well as a page number on each page of their submissions. Paper submissions should also include a CD or DVD with an electronic version of the document, which should be labeled with the name and organization of the filer. All comments received are a part of the public record and will generally be posted to the NTIA Web site (http://www.ntia.doc.gov) without change. All personal identifying information (e.g., name, address) voluntarily submitted by the commenter may be publicly accessible.

FOR FURTHER INFORMATION CONTACT: Carolyn Dunn, Office of Public Safety Communications, National Telecommunications and Information Administration, U.S. Department of Commerce, 1401 Constitution Avenue NW., Room 4078, Washington, DC 20230; sapp-comments@ntia.doc.gov; (202) 482-4103. Please direct media inquiries to NTIA's Office of Public Affairs: (202) 482-7002; via email to: press@ntia.doc.gov.

SUPPLEMENTARY INFORMATION: The original notice provided NTIA's preliminary guidance concerning how a qualified state may apply to NTIA for authority to enter into a spectrum capacity lease with FirstNet and receive a grant to construct its RAN should it opt to do so as allowed under the Act. See Notice and request for comments, State Alternative Plan Program (SAPP) and the First Responder Network Authority Nationwide Public Safety Broadband Network, 81 FR 46907 (July 19, 2016), available at: https://www.ntia.doc.gov/files/ntia/publications/fr-sapp-firstnet-rfc-07182016.pdf. The original deadline for submission of comments was August 18, 2016. In response to requests for additional time in which to comment, NTIA reopens the comment period with this notice. Comments received between the August 18, 2016 due date for comments announced in the July 19, 2016 notice, and publication of this notice in the Federal Register, are deemed to be timely.

Dated: August 18, 2016.
Kathy D. Smith,
Chief Counsel, National Telecommunications and Information Administration.

[FR Doc. 2016-20169 Filed 8-23-16; 8:45 am]

BILLING CODE 3510-60-P